SECURITIES AND EXCHANGE COMMISSION

[File No. 500-1]

Order of Suspension of Trading; in the Matter of CelLynx Group, Inc., Dot VN, Inc., and Global Health Voyager, Inc.

April 21, 2016.

It appears to the Securities and Exchange Commission that there is a lack of current and accurate information concerning the securities of CelLynx Group, Inc. (CIK No. 1067286), a defaulted Nevada corporation with its principal place of business listed as Miami, Florida with stock quoted on OTC Link (previously, “Pink Sheets”) operated by OTC Markets Group Inc. (“OTC Link”) under the ticker symbol CYNX, because it has not filed any periodic reports since the period ended March 31, 2013. On August 19, 2015, a delinquency letter was sent by the Division of Corporation Finance to CelLynx Group, Inc. requesting compliance with its periodic filing obligations, but CelLynx Group, Inc. did not receive the delinquency letter due to its failure to maintain a valid address on file with the Commission as required by Commission rules (Rule 301 of Regulation S-T, 17 CFR 232.301 and Section 5.4 of EDGAR Filer Manual).

It appears to the Securities and Exchange Commission that there is a lack of current and accurate information concerning the securities of Dot VN, Inc. (CIK No. 1412130), a delinquent Delaware corporation with its principal place of business listed as San Diego, California with stock quoted on OTC Link under the ticker symbol DTVI, because it has not filed any periodic reports since the period ended January 31, 2012. On November 7, 2013, a delinquency letter was sent by the Division of Corporation Finance to Dot VN, Inc. requesting compliance with its periodic filing obligations, and Dot VN, Inc. received the delinquency letter in November 2013, but failed to cure its delinquencies.

It appears to the Securities and Exchange Commission that there is a lack of current and accurate information concerning the securities of Global Health Voyager, Inc. (CIK No. 318622), a void Delaware corporation with its principal place of business listed as Los Angeles, California with stock quoted on OTC Link under the ticker symbol GLHV, because it has not filed any periodic reports since the period ended June 30, 2013. On August 19, 2015, a delinquency letter was sent by the Division of Corporation Finance to Global Health Voyager, Inc. requesting compliance with its periodic filing obligations, and Global Health Voyager, Inc. received the delinquency letter on August 24, 2015, but failed to cure its delinquencies.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on April 21, 2016, through 11:59 p.m. EDT on May 4, 2016.

By the Commission.
Jill M. Peterson,
Assistant Secretary.

[FR Doc. 2016-09646 Filed 4-21-16; 11:15 am]

BILLING CODE 8011-01-P